ENVIRONMENTAL PROTECTION AGENCY

[FRL-6728-6]

Agency Information Collection: Continuing Collection; Comment Request Combined Sewer Overflow Control Policy

AGENCY: Environmental Protection Agency (EPA).

ACTION: Notice.

SUMMARY: In compliance with the Paperwork Reduction Act (44 U.S.C. 3501 et seq.), this document announces that EPA plans to submit the following renewal Information Collection Request (ICR) to the Office of Management and Budget (OMB): Combined Sewer Overflow Control Policy (OMB Control Number 2040-0170; EPA Number 1680.03; expiring on September 30, 2000). Before submitting the ICR to OMB for review and approval, EPA is soliciting comments on specific aspects of the proposed information collection as described below.

DATES: Comments must be submitted on or before September 1, 2000.

ADDRESSES: Environmental Protection Agency, Office of Wastewater Management, (Mail Code 4203, Ariel Rios Building, 1200 Pennsylvania Avenue, NW, Washington, DC 20460. Interested persons may obtain a copy of the proposed renewal ICR without charge by calling or writing to Timothy J. Dwyer at the Office of Wastewater Management, MC 4203, Ariel Rios Building, 1200 Pennsylvania Avenue, NW, Washington DC 20450; telephone (202) 260-6064.

FOR FURTHER INFORMATION CONTACT: Timothy Dwyer, EPA Office of Wastewater Management (Mail Code 4203), Ariel Rios Building, 1200 Pennsylvania Avenue, NW., Washington, DC 20460. Telephone: (202) 260-6064. Fax: (202) 260-1460. E-mail: dwyer.tim@epa.gov.

SUPPLEMENTARY INFORMATION: Affected entities: Entities affected by this action are municipalities with combined sewer systems, which are covered by EPA's Combined Sewer Overflow (CSO) Control Policy.

Title: Combined Sewer Overflow Control Policy (OMB Control No. 2040-0170; EPA ICR No. 1680.02) expiring on 09/30/00.

Abstract: EPA is proposing to continue its ICR for the Combined Sewer Overflow (CSO) Control Policy. The ICR was initially approved in April 1994. The first renewal was approved in September 1997. This renewal ICR includes the burden associated with documenting implementation of the nine minimum controls identified in the CSO control policy, public notification of CSO events and their impacts, developing and submitting long-term CSO control plans (LTCPs), and post-construction compliance monitoring.

Combined sewer systems (CSSs) serve approximately 900 municipalities, primarily in the Northeast and Great Lakes regions. This number is smaller than that in the former ICR largely because the Agency has better data on the number of municipalities with combined sewer systems nationwide. CSOs occur when these systems overflow and discharge to receiving waters prior to treatment in a publicly owned treatment works (POTW).

The CSO Control Policy, published on April 19, 1994 (59 FR 18688), is a national framework for controlling CSOs through the National Pollutant Discharge Elimination System (NPDES) permitting program. The Policy represents a comprehensive national strategy to ensure that municipalities with CSSs, NPDES permitting authorities, water quality standards authorities, and the public engage in a comprehensive and coordinated planning effort to achieve cost-effective CSO controls that ultimately meet appropriate health and environmental objectives, including compliance with water quality standards.

Among the provisions in the CSO Policy are the nine minimum controls, which are technology-based actions or measures designed to reduce the magnitude, frequency, and duration of CSOs and their effects on receiving water quality. The CSO Control Policy provided for implementation of the nine minimum controls by January 1, 1997.

One of these controls is public notification of CSO occurrences and impacts. Public notification is of particular concern at beach and recreation areas directly or indirectly affected by CSOs, where public exposure is likely to be significant. That burden continues to be included in this renewal.

The CSO Control Policy also contains a provision for the development of long-term control plans. The policy recommends that permit writers require permittees to develop a long-term plan within two years of the issuance of a NPDES permit or other enforceable mechanism containing such a requirement. The core of the plan is the development and evaluation of long-term control alternatives. One of the elements of the long-term plan is the development of a post-construction compliance monitoring program to be implemented when selected controls are completed. OMB's approval of the initial ICR for the CSO Control Policy recommended that the renewal ICRs include EPA's best estimate of the burden associated with a reasonable and targeted compliance monitoring program. That burden also continues to be included in this renewal.

An agency may not conduct or sponsor, and a person is not required to respond to, a collection of information unless it displays a currently valid OMB control number. The OMB control numbers for EPA's regulations are listed in 40 CFR Part 9 and 48 CFR Chapter 15.

The EPA would like to solicit comments on its renewal ICR for the CSO Control Policy. Specifically we would like comments to help us to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The estimated burden reflected in this ICR is 1,754,877 hours and a cost of $61,964,707.

Of this total, the portion for municipalities with combined sewer systems is 1,699,696 hours at a cost of $60,016,265, including start-up costs of $182,125 for the third party notification under the nine minimum controls in the CSO Policy. The estimated burden on each of 585 municipalities for DMR reporting and record keeping is 417 hours and $14,724. The estimated burden on each of 490 municipalities for nine minimum control reporting and LTCP development and submission is 3,011 hours and $106,313 and for third-party notification, 27 hours and $940.

The estimated burden for Federal and State governments is 4,894 hours and $172,807 and 55,181 hours and $1,948,441, respectively. This includes the burden associated with reviewing the DMRs, the nine minimum control documentations, and the LTCP plans submitted by the respondents, and reissuing NPDES permits or issuing other enforceable mechanisms to municipalities with CSSs to implement the CSO Control Policy. The annual average burden for Federal and State review of DMRs, nine minimum control documentations, and LTCP plans is 1,325 hours and $46,774 and 15,807 hours and $532,722, respectively. The annual average burden associated with reissuing NPDES permits or issuing other enforceable mechanisms to CSO municipalities is 307 hours and $10,828 for the Federal government and 3,307 hours and $116,758 for State governments.

The estimated burden on the States to report summary information to EPA for oversight of the EPA's CSO Control Policy and for GPRA purposes is 1,200 hours and $42,351.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Interested parties may obtain a copy of the draft supporting statement, including the burden analysis, from Timothy Dwyer, EPA Office of Wastewater Management, at (202) 260-6064.

Dated: June 23, 2000.
A.W. Lindsey,
Acting Director, Office of Wastewater Management.

[FR Doc. 00-16764 Filed 6-30-00; 8:45 am]

BILLING CODE 6560-50-U